DEPARTMENT OF DEFENSE

Department of the Navy

Notice of Intent To Prepare an Environmental Impact Statement (EIS) for a Swimmer Interdiction Security System (SISS) at Naval Base Kitsap-Bangor, Kitsap County, WA, and Announce Public Scoping Meetings

AGENCY: Department of the Navy, DoD.

ACTION: Notice.

SUMMARY: Pursuant to section 102(2)(C) of the National Environmental Policy Act (NEPA) of 1969, and the regulations implemented by the Council on Environmental Quality (40 CFR parts 1500-1508), the Department of the Navy (DON) announces its intent to prepare an EIS to evaluate the potential environmental consequences of construction of facilities for and operation of the SISS.

The DON's Space and Naval Warfare Systems Center San Diego (SSC San Diego) proposes to construct and operate a SISS at Naval Base Kitsap-Bangor (NBK-Bangor). In response to the terrorist attacks of September 11, 2001, the U.S. Government has increased security requirements at its military installations. Chief of Naval Operations Instruction (OPNAVINST) 5530.14C, Navy Physical Security Manual, establishes requirements for security at naval bases, including NBK-Bangor. OPNAVINST 5530.14C requires waterside security measures be implemented to protect the DON's assets. The proposed SISS is needed to provide additional waterside security at NBK-Bangor to counter threats from surface and submerged swimmers. SSC San Diego is the Action Proponent.

Other than the preferred alternative, the most effective alternatives would be use of Combat Swimmers and Remotely Operated Vehicles (ROVs). Under the Combat Swimmers alternative, specially trained personnel would be used to interdict underwater intruders. The combat swimmers would be aboard Harbor Security Boats (HSB) and would be deployed into the water to respond to security alerts by finding, identifying, and marking the location of underwater objects or initiating interdiction of intruders. Under the ROV alternative, ROVs would be deployed from HSBs to respond to security alerts by finding, identifying, and marking the location of underwater objects or initiating interdiction of intruders. A No Action alternative will also be evaluated. Under this alternative, no SISS would be implemented.

DATES AND ADDRESSES: Public scoping meetings will be held in Keyport, Kitsap County, Washington, and Seattle, King County, Washington, to receive oral and written comments on environmental concerns that should be addressed in the EIS. Public scoping meetings will be held on: March 27, 2007, from 5:30 p.m. to 8:30 p.m., at the Naval Undersea Museum, Highway 308 at Garnet Way, Keyport, WA 98345, and on March 28, 2007, from 5:30 p.m. to 8:30 p.m., at the Holiday Inn, 211 Dexter Avenue North, Seattle, WA 98109.

SUPPLEMENTARY INFORMATION: The DON conducted a literature review and held discussions with subject matter experts to identify alternatives for implementing the SISS. Nine action alternatives and a No Action alternative have been identified. The highest rated and preferred alternative would be composed of human/marine mammal teams that would support DON operations and respond rapidly to security alerts. The system would involve stationing California sea lions and Atlantic Bottlenose dolphins at the site (combined total of no more than 30 animals). In-water enclosures housing SISS mammals would be placed adjacent to an existing pier/wharf on a floating dock at NBK-Bangor. The enclosures for the sea lions would be of the open-mesh type, while the dolphins would be housed in environmentally controlled enclosures. Additional support facilities, including on-shore pools for veterinary purposes and trailers for staff, laboratory, food preparation, and storage would be installed at an upland location at NBK-Bangor. The marine mammals would be deployed along the waterfront in conjunction with humans aboard small power boats; the mammals would respond to security alerts by finding, identifying, and marking the location of underwater objects, or initiating interdiction of intruders.

The marine mammals used in this system would come from the DON's marine mammal program in San Diego, and would undergo extensive health screening before and after transport to NBK-Bangor. The SISS facilities would operate in conformance with standards for animal care established by the Department of Defense, the Department of Agriculture, the Animal Welfare Act, and the Association for Assessment and Accreditation of Laboratory Animal Care, and a veterinarian would remain on site to meet animal health care needs. The DON is committed to protecting its marine mammals, and makes every effort to ensure the operational capability they provide is maintained by ensuring the animals remain healthy and safe while performing their duties. To this end, several studies have been conducted looking at the affects of cold water and air on the health and behavior of dolphins. Studies have been conducted in both artificial environments, such as an arctic research facility (Chun and Harris, 1978), and in naturally cold environments, such as off the coast of Connecticut (Scronce and Bowers, 1983). Other studies have been conducted in San Diego and Hawaii to determine the impact of cold water on the dolphin's ability to preserve its body temperature (Costa et al., Williams et al., 1991, Heath and Miller, 1998). Another study is currently being conducted to determine the exact temperature limits under which the dolphins can perform their tasking. These studies have helped the DON develop safe operational guidelines for the use of marine mammal systems under thermally challenging conditions. In addition, the DON has deployed dolphins to numerous cold water environments (e.g., Canada, Alaska, Norway, and Germany). It has developed facilities and procedures for mitigating any impact of cold exposure on the dolphins during these deployments. These will be further analyzed and reviewed during this EIS process. Analysis will include water quality, air quality, biological communities, fish, marine mammals, land and sea birds, threatened and endangered species, land and water use, geology and soils/sediments, cultural resources, socioeconomics, noise, public safety, aesthetics, energy, and, in the case of the preferred alternative, effects of the site environment on the deployed mammals.

FOR FURTHER INFORMATION CONTACT: Members of the public may provide comments orally or in writing at the scoping meeting, or by mail, fax, or email sent to the following address: Commanding Officer, Space and Naval Warfare Systems Center, ATTN: Mike Rothe 235, 53560 Hull St., San Diego, CA 92152, phone: 888-510-5476, fax: 619-221-5251, e-mail: NBKEIS@spawar.navy.mil. The deadline for submitting comments is April 11, 2007.

Dated: February 5, 2007.
M. A. Harvison,
Lieutenant Commander, Judge Advocate General's Corps, U.S. Navy, Federal Register Liaison Officer.

[FR Doc. E7-2307 Filed 2-9-07; 8:45 am]

BILLING CODE 3810-FF-P